ENVIRONMENTAL PROTECTION AGENCY

[EPA-HQ-OAR-2022-0087; FRL-10514-01-OMS]

Information Collection Request Submitted to OMB for Review and Approval; Comment Request; NESHAP for Mineral Wool Production (Renewal)

AGENCY: Environmental Protection Agency (EPA).

ACTION: Notice.

SUMMARY: The Environmental Protection Agency has submitted an information collection request (ICR), NESHAP for Mineral Wool Production (EPA ICR Number 1799.11, OMB Control Number 2060-0362), to the Office of Management and Budget (OMB) for review and approval in accordance with the Paperwork Reduction Act. This is a proposed extension of the ICR, which is currently approved through January 31, 2023. Public comments were previously requested, via the Federal Register, on July 22, 2022 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before January 19, 2023.

ADDRESSES: Submit your comments, referencing Docket ID Number EPA-HQ-OAR-2022-0087, to: (1) EPA online using https://www.regulations.gov/ (our preferred method), or by email to docket@epa.gov, or by mail to: EPA Docket Center, Environmental Protection Agency, Mail Code 28221T, 1200 Pennsylvania Ave. NW, Washington, DC 20460; and (2) OMB's Office of Information and Regulatory Affairs using the interface at: https://www.reginfo.gov/public/do/PRAMain. Find this specific information collection by selecting “Currently under Review—Open for Public Comments” or by using the search function.

The EPA's policy is that all comments received will be included in the public docket without change, including any personal information provided, unless the comment includes profanity, threats, information claimed to be Confidential Business Information (CBI), or other information whose disclosure is restricted by statute.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Mineral Wool Production (40 CFR part 63, subpart DDD) were proposed on May 8, 1997; promulgated on June 1, 1999; and amended on July 29, 2015. These regulations apply to both new and existing mineral wool production facilities with cupolas and/or curing ovens. These standards apply to owners or operators located at a plant site that is a major source of hazardous air pollutant (HAP) emissions. New facilities include those that commenced either construction or reconstruction after the date of proposal. This information is being collected to assure compliance with 40 CFR part 63, subpart DDD. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Mineral wool production facilities with cupolas and/or curing ovens.

Respondent's obligation to respond: Mandatory (40 CFR part 63, subpart DDD).

Estimated number of respondents: Nine (total).

Frequency of response: Initially, occasionally, and semiannually.

Total estimated burden: 2,440 hours (per year). Burden is defined at 5 CFR 1320.3(b).

Total estimated cost: $368,000 (per year), which includes $75,400 in annualized capital/startup and/or operation & maintenance costs.

Changes in the Estimates: The increase in burden from the most recently approved ICR is due to several adjustments. There is an adjustment increase in labor burden due to a small increase in the number of respondents. Although the total labor cost decreased, this is due to a correction to attribute testing costs to O&M costs, resulting in a corresponding increase to the O&M costs. In addition to accounting for the testing costs as O&M costs, the increased O&M costs are also due to the increased number of respondents and adjusting the testing costs from 2011 to 2020 dollars and the baghouse leak detection costs from 2006 to 2020 dollars using the CEPCI Index. Because there are no new sources expected during the three-year period covered by this ICR, there is no change in the estimated capital cost.

Courtney Kerwin,
Director, Regulatory Support Division.

[FR Doc. 2022-27533 Filed 12-19-22; 8:45 am]

BILLING CODE 6560-50-P